DEPARTMENT OF COMMERCE

National Oceanic and Atmospheric Administration

50 CFR Part 660

[Docket No. 000622191-2104-02; I.D. 041700D]

RIN 0648-A035

Fisheries Off West Coast States and in the Western Pacific; Pelagic Fisheries; Measures To Reduce the Incidental Catch of Seabirds in the Hawaii Pelagic Longline Fishery

AGENCY: National Marine Fisheries Service (NMFS), National Oceanic and Atmospheric Administration (NOAA), Commerce.

ACTION: Announcement of effectiveness of a collection-of-information requirement.

SUMMARY: NMFS announces the effectiveness of a collection-of-information requirement for participants in the Hawaii-based longline limited access fishery, whereby in the event an endangered short-tailed albatross is accidentally hooked or entangled during fishing operations, NMFS or the U.S. Coast Guard (USCG) or U.S. Fish and Wildlife Service (USFWS) must be notified immediately. Recovery information on short-tailed albatross, which is retrieved from the ocean by a Hawaii-based longline vessel, must be recorded on a data form provided by NMFS. If the retrieved short-tailed albatross is dead or dies on board the vessel, information tags must be attached to the carcass and specimen bag.

DATES: Paragraphs 660.35(b)(4)(i), 660.35(b)(6), and 660.35(b)(8) of the final rule published May 14, 2002 (67 FR 34408), are effective October 10, 2002.

FOR FURTHER INFORMATION CONTACT: Alvin Z. Katekaru, Pacific Islands Area Office, NMFS, 808-973-2937.

SUPPLEMENTARY INFORMATION: On May 14, 2002 (67 FR 34408), NMFS published a final rule that promulgated a regulatory amendment, under the Fishery Management Plan for the Pelagic Fisheries of the Western Pacific Region, permanently codifying seabird take mitigation measures in the Hawaii-based longline fishery. Section 660.35 (Pelagic longline seabird mitigation measures) of that final rule contains a collection-of-information requirement for any vessel registered for use under a Hawaii longline limited access permit. Immediate notification must be provided to NMFS, the USCG, or the USFWS of any hooking or entanglement of an endangered short-tailed albatross during longline fishing operations. If the albatross is retrieved dead or dies on board the vessel, an identification tag must be attached directly to the carcass listing the species, location, and date of mortality, and band number if the bird has a leg band. A duplicate identification tag must be attached to the specimen bag or container holding the carcass. If the retrieved short-tailed albatross is alive, the condition of the bird must be recorded on a recovery data form provided by NMFS. The information may be used by a veterinarian in providing advice to the vessel operator and crew on the care and recovery of an injured short-tailed albatross.

In the final rule, NMFS requested comments on the reporting burden estimate or any other aspect of the collection-of-information requirements that are in this final rule. No comments were received on the collection-of-information requirements.

Because the notification and reporting activities constitute a collection-of-information subject to the Paperwork Reduction Act, it could not be enforced prior to approval by the Office of Management and Budget (OMB). Delayed enforcement of §§660.35(b)(4)(i), 660.35(b)(6), and 660.35(b)(8) was announced in the May 14, 2002, final rule pending OMB approval of short-tailed albatross interaction notification and reporting procedures. OMB has approved the collection-of-information requirement under OMB control number 0648-0456. Sections 660.35(b)(4)(i), 660.35(b)(6), and 660.35(b)(8) are effective September 30, 2002, and will be enforced from that date on.

List of Subjects in 50 CFR Part 660

Reporting and recordkeeping requirements.

Dated: September 4, 2002.
Rebecca Lent,
Deputy Assistant Administrator for Regulatory Programs, National Marine Fisheries Service

[FR Doc. 02-22924 Filed 9-9-02; 8:45 am]

BILLING CODE 3510-22-S